DEPARTMENT OF COMMERCE

International Trade Administration

[A-570-007]

Barium Chloride From the People's Republic of China: Final Results and Rescission in Part of Antidumping Duty Administrative Review

AGENCY: Import Administration, International Trade Administration, Department of Commerce.

ACTION: Notice of final results and rescission in part of antidumping duty administrative review of barium chloride from the People's Republic of China.

SUMMARY: On November 8, 2002, the Department of Commerce (the Department) published in the Federal Register the preliminary results and partial rescission of its administrative review of the antidumping duty order on barium chloride from the People's Republic of China (PRC) covering the period of review (POR) October 1, 2000, to September 30, 2001. See Barium Chloride From the People's Republic of China: Preliminary Results and Rescission in Part of Antidumping Duty Administrative Review, 67 FR 68094 (Preliminary Results). We initiated this review on 11 Chinese manufacturers/exporters of barium chloride ¹ but are rescinding the review with respect to Zhangjiaba Salt Chemical Co., Ltd., Barium Salts Branch because the record indicates that this company did not sell subject merchandise to the United States during the POR. Because the remaining companies did not respond to the Department's questionnaire, we consider them to be part of the PRC-wide entity, and applied adverse facts available. In the preliminary results of this review, we recalculated the PRC-wide rate using information placed on the record by the petitioner as appropriately adjusted by the Department. We have continued to take this approach in the final results.

¹ Those manufacturers/exporters are: Zhangjiaba Salt Chemical Co., Ltd., Barium Salts Branch, Hebei Xinji Chemical Plant, Tianjin Chemical Industry Corporation, Qingdao Red Star Chemical Group Co., Tianjin Bohai Chemical United Import/Export Company, Sichuan Emeishan Salt Chemical Industry Group Company, Ltd., Hengnan, Kunghan, Linshu, Tangshan, and China National Chemicals Import and Export Corporation (Sinochem).

EFFECTIVE DATE: March 17, 2003.

FOR FURTHER INFORMATION CONTACT: John Conniff or Drew Jackson, AD/CVD Enforcement, Office 4, Group II, Import Administration, International Trade Administration, U.S. Department of Commerce, 14th Street and Constitution Avenue, NW., Washington, DC 20230; telephone (202) 482-1009 or (202) 482-4406, respectively.

SUPPLEMENTARY INFORMATION:

Background

On November 8, 2002, the Department published in the Federal Register (67 FR 68094) the preliminary results and rescission, in part, of its administrative review of the antidumping duty order on barium chloride from the PRC. In response to the Department's invitation to submit comments on the preliminary results, one respondent, Zhangjiaba Salt Chemical Co. Ltd., Barium Salts Branch (Zhangjiaba), submitted a case brief on November 27, 2002, and the petitioner, Chemical Products Corporation (CPC) submitted a rebuttal brief on December 4, 2002. A public hearing was held on February 11, 2003.

The Department is conducting this administrative review in accordance with section 751 of the Tariff Act of 1930, as amended (the Act).

Scope of Review

The imports covered by this review are shipments of barium chloride, a chemical compound having the formulas BaCl2 or BaCl2-2H2O, currently classifiable under item number 2827.39.45.00 of the Harmonized Tariff Schedule of the United States (HTSUS).² Although the HTSUS item number is provided for convenience and for U.S. Customs (Customs) purposes, the written description remains dispositive.

² The scope reflects the HTSUS item number currently in effect.

Period of Review

The POR is October 1, 2000, through September 30, 2001.

Analysis of Comments Received

All issues raised in the case and rebuttal briefs submitted by parties to this administrative review are addressed in the “Issues Decision Memorandum” (Decision Memorandum) from Holly A. Kuga, Acting Deputy Assistant Secretary for Import Administration, Group II, to Joseph A. Spetrini, Acting Assistant Secretary for Import Administration, dated concurrently with this notice, which is hereby adopted by this notice. A list of the issues which parties have raised and to which we have responded, all of which are in the Decision Memorandum, is attached to this notice as an Appendix. Parties can find a complete discussion of all issues raised in this review and the corresponding recommendations in this public memorandum, which is on file in the Central Record Unit, room B-099 of the main Department of Commerce building. In addition, a complete version of the Decision Memorandum can be accessed directly on the International Trade Administration's Web site at http: www.ia.ita.doc.gov. The paper copy and electronic version of the Decision Memorandum are identical in content.

Final Partial Rescission of Review

We are rescinding this review with respect to Zhangjiaba because it reported that it made no shipments of subject merchandise to the United States during the POR and our review of Customs data supports Zhangjiaba's claim. See Zhangjiaba's December 21, 2001, submission to the Department.

Changes Since the Preliminary Results

Consistent with the approach taken in petroleum wax candles from the PRC, we have inflated the surrogate value for electricity using an industry-specific wholesale price index. See Petroleum Wax Candles from the PRC: Notice of Final Results of New Shipper Review, 67 FR 41395 (June 18, 2002), and accompanying Issues and Decisions Memorandum at Comment 4.

Final Results of Review

We determine that the following weighted-average percentage margin exists for the period October 1, 2000, through September 30, 2001:

Exporter/Manufacturer | Margin (percent)
PRC-Wide Rate | 155.50

Cash Deposit Requirements

The following cash deposit requirements will be effective upon publication of this notice of final results of administrative review for all shipments of barium chloride from the PRC entered, or withdrawn from warehouse, for consumption on or after the date of publication, as provided by section 751(a)(1) of the Act: (1) The cash deposit rate for all Chinese exporters will be the rate shown above; and (2) for non-PRC exporters of subject merchandise from the PRC, the cash deposit rate will be the rate applicable to their PRC suppliers.

These deposit requirements shall remain in effect until publication of the final results of the next administrative review.

Assessment

Customs shall assess antidumping duties on all appropriate entries. The Department will issue appraisement instructions directly to Customs within 15 days of publication of these final results of review. We will direct Customs to assess the resulting assessment rate against the entered customs values for all entries of subject merchandise during the review period.

Reimbursement of Duties

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of doubled antidumping duties.

Administrative Protective Orders

This notice also serves as the only reminder to parties subject to administrative protective orders (APOs) of their responsibility concerning the return or destruction of proprietary information disclosed under an APO in accordance with 19 CFR 351.305 of the Department's regulations. Timely written notification of the return/destruction of APO materials or conversion to judicial protective order is hereby requested. Failure to comply with the regulations and terms of an APO is a violation which is subject to sanction.

We are issuing and publishing this determination and notice in accordance with sections 751(a)(1) and 777(i) of the Act.

Dated: March 10, 2003.
Joseph A. Spetrini,
Acting Assistant Secretary for Import Administration.

Appendix—Issues in Decision Memorandum

Comments

Comment 1: Whether the Department Should Redetermine the PRC-Wide Rate

Comment 2: Whether the Department Should Grant Zhangjiaba a Separate Rate

Comment 3: Whether the Department Inappropriately Resorted to Adverse Facts Available With Respect to Zhangjiaba

[FR Doc. 03-6338 Filed 3-14-03; 8:45 am]

BILLING CODE 3510-DS-P